DEPARTMENT OF THE INTERIOR

Bureau of Land Management

[BLM_NV_FRN_MO #4500167906]

Notice of Realty Action: Classification for Lease and/or Conveyance of Public Lands in Humboldt County, Nevada

AGENCY: Bureau of Land Management, Interior.

ACTION: Notice of realty action.

SUMMARY: The Bureau of Land Management (BLM), Humboldt River Field Office, has examined 40 acres of public land in Humboldt County, Nevada, and found the land suitable to classify for lease and/or conveyance under the provisions of the Recreation and Public Purposes (R&PP) Act, as amended. Humboldt County proposes to use the land to build a school complex with a K-8 elementary school and a high school in Orovada, Nevada, to improve educational services in the community.

DATES: Submit written comments regarding this proposed classification on or before August 24, 2023. Comments may be mailed, or hand delivered to the BLM office address in the ADDRESSES section. The BLM will not consider comments received via telephone calls or email.

ADDRESSES: Mail written comments to: Samuel Burton, Winnemucca District Manager, 5100 Winnemucca East Boulevard, Winnemucca, NV 89445. Detailed information including, but not limited to, a proposed development plan, management plan, and documentation relating to with applicable environmental and cultural resource laws, is available for review during business hours, 7:30 a.m. to 4:30 p.m. Pacific Time, Monday through Friday, except during Federal holidays, at the Humboldt River Field Office, 5100 East Winnemucca Boulevard, Winnemucca, Nevada 89445.

FOR FURTHER INFORMATION CONTACT: Jenifer Barnett, Realty Specialist, Humboldt River Field Office, by telephone at 775-623-1582, by email at jbarnett@blm.gov; or you may visit the Humboldt River Field Office at the earlier-listed address. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The lands examined and identified as suitable for conveyance under the R&PP Act are legally described as:

Mount Diablo Meridian, Nevada

T. 42 N., R. 37 E.,

Sec. 4, SE¼SE¼.

The area described contains 40 acres, according to the official plats of the surveys on file with the BLM.

The proposed school complex would be in Orovada, a census-designated place in the Quinn River Valley, Nevada, which is approximately 45.8 miles north of Winnemucca, Nevada. The new elementary school would replace the existing elementary school that has become difficult to maintain due to its age and condition. The new schoolhouse needs to be built elsewhere because the location of the existing school is also less than adequate, with traffic concerns.

The schoolhouse would include a Primary Education Development Center consisting of an outdoor basketball court, picnic area, rock climbing and jungle gym areas, outdoor running track, water well, septic system, soccer field, and a detached gymnasium that would function as a community center when not in use for school activities. The school would include a library, a cafeteria and kitchen, an art/music room and support room, a STEM lab/flex space, a kindergarten room, three open concept classrooms to serve first through eighth grades, electrical and mechanical rooms, restrooms, a nurse's room, a teacher's lounge, office space, and a waiting area.

Thirty-two students attend the existing elementary school; however, the new school would be designed to accommodate community growth by including space for additional classrooms to be built later should they be needed. Up to 20 acres would be used to construct the elementary school, gymnasium, parking lots, sports fields, and landscaping. The high school would be developed over the remaining 20 acres and would include a schoolhouse, detached gymnasium, common area, outdoor running track, and desert landscaping. Each school would have paved parking for staff, visitors, and student drop-off areas. The schools would be built using rammed-earth technology and the design would adhere to all state and local laws and codes. Construction of the elementary school would begin in 2023, and the high school would be built afterwards.

The lands identified are not needed for any Federal purpose and it would be in the public's interest to transfer the parcel under the R&PP Act. The lease and subsequent conveyance are consistent with the Resource Management Plan for the Winnemucca District Planning Area.

All interested parties will receive a copy of this notice once it is published in the Federal Register. A copy of the notice will also be published in a newspaper of general circulation once a week for three consecutive weeks and mailed to interested parties, adjoining landowners, and appropriate government offices.

Upon publication of this notice in the Federal Register, the lands will be segregated from all other forms of appropriation under the public land laws, including location and entry under the mining laws, except for lease or conveyance under the R&PP Act and leasing under the mineral leasing laws.

The lease or conveyance of the land, when issued, will be subject to the following terms, conditions, and reservations:

1. A right-of-way thereon for ditches and canals constructed by the authority of the United States Act of August 30, 1890 (43 U.S.C. 945).

2. Provisions of the R&PP Act and all applicable regulations of the Secretary of the Interior.

3. All mineral deposits in the land so patented, and the right to prospect for, mine, and remove such deposits from the same under applicable law and regulations as established by the Secretary of the Interior are reserved to the United States, together with all necessary access and exit rights.

4. Lease or conveyance of the parcel is subject to valid existing rights.

5. An appropriate indemnification clause protecting the United States from claims arising out of the lessee's/patentee's use, occupancy, or operations on the leased/patented lands.

6. Any other reservations that the authorized officer determines appropriate to ensure public access and proper management of Federal lands and interests therein.

Comments on the classification are restricted to whether the land is physically suited for the school complex as proposed, whether the use will maximize the future use or uses of the land, whether the use is consistent with local planning and zoning, or if the use is consistent with State and Federal programs.

Interested persons may also submit comments regarding the specific use proposed in the application and plan of development and management, whether the BLM followed proper administrative procedures in reaching the decision, or any other factor not directly related to the suitability of the lands for a school complex, as proposed.

Any adverse comments will be reviewed by the BLM State Director who may sustain, vacate, or modify this realty action. In the absence of any adverse comments, the classification will become effective on September 8, 2023. The lands will not be offered for lease or conveyance until after the classification becomes effective.

Before including your address, phone number, email address, or other personal identifying information in your comment, be advised that your entire comment, including your personal identifying information, may be made publicly available at any time. While you can ask us in your comment to withhold your personal identifying information from public review, we cannot guarantee that we will be able to do so.

(Authority: 43 CFR 2741.5.)

Samuel Burton,
District Manager, Winnemucca District.

[FR Doc. 2023-14446 Filed 7-7-23; 8:45 am]

BILLING CODE 4331-21-P